DEPARTMENT OF ENERGY

Federal Energy Regulatory Commission

Notice of Intent To Prepare an Environmental Assessment and Notice of Scoping Meetings and Site Visit and Soliciting Scoping Comments

July 1, 2003.

Take notice that the following hydroelectric application has been filed with Commission and is available for public inspection:

a. Type of Application: New Major License.

b. Project No.: 382-026.

c. Date filed: February 26, 2003.

d. Applicant: Southern California Edison Company.

e. Name of Project: Borel Hydroelectric Project.

f. Location: On the Kern River near the town of Bodfish, Kern County, California. The canal intake for the project is located on approximately 188 acres of Sequoia National Forest Service lands.

g. Filed Pursuant to: Federal Power Act, 16 U.S.C.§§ 791(a)-825(r).

h. Applicant Contact: Mr. Nino J. Mascolo, Senior Attorney, Southern California Edison Co., 2244 Walnut Grove Avenue, P.O. Box 800, Rosemead, California 91770.

i. FERC Contact: Allison Arnold at (202)502-6346 or allison.arnold@ferc.gov.

j. Deadline for filing scoping comments: September 5, 2003.

All documents (original and eight copies) should be filed with: Magalie R. Salas, Secretary, Federal Energy Regulatory Commission, 888 First Street, NE., Washington, DC 20426.

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

Scoping comments may be filed electronically via the Internet in lieu of paper. The Commission strongly encourages electronic filings. See 18 CFR 385.2001(a)(1)(iii) and the instructions on the Commission's Web site ( http://www.ferc.gov ) under the “e-Filing” link.

k. This application is not ready for environmental analysis at this time.

l. The existing Borel Hydroelectric Project (Project) consists of: (1) A 158-foot long, 4-foot-high concrete diversion dam with fishway; (2) a 61-foot-long intake structure with three 10-by 10-foot radial gates; (3) a canal inlet structure consisting of a canal intake, trash racks, and a sluice gate; (4) a flowline with a combined total length of 1,985-feet of tunnel, 1,651-feet of steel Lennon flume, 3,683-feet of steel siphon, and 51,835-feet of concrete-lined canal; (5) four steel penstock, penstocks 1 and 2 are 526-feet-long and 565-feet-long, respectively with varying diameters between 42 and 60 inches, penstocks 3 and 4 each have a 60-inch-diameter and extend 622-feet at which point they wye together to form a single 84-inch-diameter, 94-foot-long penstock; (6) a powerhouse with two 3,000 kW generators and a 6,000kW generator for a total installed capacity of 12,000 kW or 12 MW; and (7) other appurtenant facilities. The Project has no storage capability and relies on water releases from Lake Isabella made by the U.S. Army Corp of Engineers.

m. A copy of the application is available for review at the Commission in the Public Reference Room or may be viewed on the Commission's Web site at http://www.ferc.gov using the “FERRIS” link. Enter the docket number excluding the last three digits in the docket number field to access the document. For assistance, contact FERC Online Support at FERCOnlineSupport@ferc.gov or toll-free at 1-866-208-3676, or for TTY, (202) 502-8659. A copy is also available for inspection and reproduction at the address in item h above.

n. Scoping Process

The Commission intends to prepare an Environmental Assessment (EA) on the project in accordance with the National Environmental Policy Act. The EA will consider both site-specific and cumulative environmental impacts and reasonable alternatives to the proposed action.

Scoping Meetings

FERC staff will conduct one evening meeting and one daytime scoping meeting. The evening scoping meeting is primarily for public input, while the daytime scoping meeting will focus on resource agency and non-governmental organization (NGO) concerns. All interested individuals, organizations, and agencies are invited to attend one or both of the meetings, and to assist the staff in identifying the scope of the environmental issues that should be analyzed in the EA. The times and locations of these meetings are as follows:

Evening Scoping Meeting

Date: Wednesday, August 6, 2003.

Time: 6:30 p.m.

Place: Woodrow Wallace Elementary School.

Address: 3240 Erskine Creek Road, Lake Isabella, CA.

Daytime Scoping Meeting

Date: Thursday, August 7, 2003.

Time: 10 a.m.

Place: U.S. Forest Service, Cannell Meadow District Office.

Address: 105 Whitney Road, Kernville, CA 93238.

Copies of the Scoping Document (SD1) outlining the subject areas to be addressed in the EA are being distributed to the parties on the Commission's mailing list. Copies of the SD1 will be available at the scoping meeting or may be viewed on the web at http://www.ferc.gov using the “FERRIS” link (see item m above).

Site Visit

Due to the logistics involved in traveling to some project locations, there is a need to know the number of attendees in advance. All individuals planning to attend need to call Allison Arnold, FERC Project Coordinator, at (202) 502-6346, no later than Thursday, July 31, 2003.

FERC staff and the Applicants will conduct a one-day project site visit on August 6, 2003, beginning at 1 p.m.. All interested individuals, organizations, and agencies are invited to attend. All participants should meet at the Woodrow Wallace Elementary School located at 3240 Erskine Creek Road, Lake Isabella, CA by 1 p.m. on August 6, 2003 for the site visit. All participants are responsible for their own transportation, although we will try to carpool.

Objectives

At the scoping meetings, the staff will: (1) Summarize the environmental issues tentatively identified for analysis in the EIS; (2) solicit from the meeting participants all available information, especially quantifiable data, on the resources at issue; (3) encourage statements from experts and the public on issues that should be analyzed in the EIS, including viewpoints in opposition to, or in support of, the staff's preliminary views; (4) determine the resource issues to be addressed in the EIS; and (5) identify those issues that require a detailed analysis, as well as those issues that do not require a detailed analysis.

Procedures

The meetings are recorded by a stenographer and become part of the formal record of the Commission proceeding on the project.

Individuals, organizations, and agencies with environmental expertise and concerns are encouraged to attend the meeting and to assist the staff in defining and clarifying the issues to be addressed in the EA.

Magalie R. Salas,
Secretary.

[FR Doc. 03-17292 Filed 7-8-03; 8:45 am]

BILLING CODE 6717-01-P